DEPARTMENT OF ENERGY

Research and Development for Fuel Cell Technologies for Automotive and Stationary Applications

AGENCY: Golden Field Office, U.S. Department of Energy (DOE).

ACTION: Notice of pre-announcement meeting for Financial Assistance Funding Opportunity Announcement (FOA) Number DE-PS36-05GO95018.

SUMMARY: The Office of Hydrogen, Fuel Cells and Infrastructure Technologies of the DOE Office of Energy Efficiency and Renewable Energy is soliciting financial assistance applications for cost-shared financial assistance agreements with the DOE for research and development that will enhance fuel cell technology. DOE intends to provide financial support under provisions of the Energy Policy Act of 1992.

DATES: Pre-Announcement Meeting to be held 1 p.m. EDT, May 26, 2005, with the planned issuance of the FOA in August 2005.

ADDRESSES: The Pre-Announcement meeting will be held 1 p.m. EDT, May 26, 2005, at the Crystal Gateway Marriott, 1700 Jefferson Davis Highway, Arlington, VA 22202.

SUPPLEMENTARY INFORMATION: In preparation for the meeting, DOE is issuing a draft FOA Description for public comments. Comments may include suggestions for research and development topic areas. The Draft FOA Description, instructions on submitting questions and comments, and additional information will be posted on the DOE Hydrogen, Fuel Cells and Infrastructure Technologies Program Web site at http://www.eere.energy.gov/hydrogenandfuelcells on or about April 15, 2005. Questions and comments should be submitted to DOE at fuelcells@go.doe.gov by May 15, 2005, so that DOE can answer as many questions as possible at the May 26th meeting. Proceedings from the meeting will be posted on the Web site at http://www.eere.energy.gov/hydrogenandfuelcells. DOE intends to release the FOA around August 2005, with awards to be made about a year later.

FOR FURTHER INFORMATION CONTACT: Reginald Tyler, Project Officer via e-mail at fuelcells@go.doe.gov. Further information on DOE's Hydrogen, Fuel Cells and Infrastructure Technologies Program can be viewed at http://www.eere.energy.gov/hydrogenandfuelcells.

Issued in Golden, Colorado, on April 4, 2005.
Matthew A. Barron,
Acting Director, Office of Acquisition and Financial Assistance.

[FR Doc. 05-7774 Filed 4-18-05; 8:45 am]

BILLING CODE 6450-01-P